SMALL BUSINESS ADMINISTRATION

Regulatory Fairness Hearing; Region I—Portland, Maine

AGENCY: U.S. Small Business Administration (SBA)

ACTION: Notice of open Hearing of Region I Small Business Owners to be held in Portland, Maine.

SUMMARY: The SBA, Office of the National Ombudsman is issuing this notice to announce the location, date and time of the Portland, Maine Regulatory Fairness Hearing. This hearing is open to the public.

DATES: The hearing will be held on Monday, May 16, 2016, from 1:00 p.m. to 4:00 p.m. (EST).

ADDRESSES: The hearing will be at The University of South Maine, Abromson Center, Room 213, Portland, Maine 04103.

SUPPLEMENTARY INFORMATION: Pursuant to the Small Business Regulatory Enforcement Fairness Act (Pub. L. 104-121), Sec. 222, SBA announces the hearing for Small Business Owners, Business Organizations, Trade Associations, Chambers of Commerce and related organizations serving small business concerns to report experiences regarding unfair or excessive Federal regulatory enforcement issues affecting their members.

FOR FURTHER INFORMATION CONTACT: The hearing is open to the public; however, advance notice of attendance is requested. Anyone wishing to attend and/or testify at the Portland, Maine hearing must contact Elahe Zahirieh by May 12, 2016, in writing, by fax at (202) 481-5719 or email at ombudsman@sba.gov. For further information, please contact Elahe Zahirieh, Case Management Specialist, Office of the National Ombudsman, 409 3rd Street SW., Suite 330, Washington, DC 20416, by phone (202) 205-6499 and fax (202) 481-6062. Additionally, if you need accommodations because of a disability, translation services, or require additional information, please contact Elahe Zahirieh as well.

For more information on the Office of the National Ombudsman, see our Web site at www.sba.gov/ombudsman.

Dated: April 19, 2016.
Miguel J. L'Heureux,
SBA Committee Management Officer.

[FR Doc. 2016-09691 Filed 4-25-16; 8:45 am]

BILLING CODE P